DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of September, 2000.

In order for an affirmative determination to be made and a certification of eligibility to apply for worker adjustment assistance to be issued, each of the group eligibility requirements of section 222 of the Act must be met.

(1) That a significant number or proportion of the workers in the workers' firm, or an appropriate subdivision thereof, have become totally or partially separated,

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-37,940; Cloverland Manufacturing, Inc., Escanaba, MI

TA-W-37,670; Berstone Knitting Mills, Brooklyn, NY

TA-W-37,753; Spray Cotton Mills, Nova Yarns Div., Eden, NC

TA-W-37,501; Stant Manufacturing, Inc., Plating Operation, Connersville, IN

TA-W-37,891; Acorn Window Systems, Quincy, MI

In the following cases, the investigation revealed that the criteria for eligibility have not been met for the reasons specified.

TA-W-37,826; Blastco Service Co., Oil Refinery Demolition Workers, Odessa, TX

TA-W-37,944; Chief Tonasket Growers, Tonasket, WA

TA-W-37,957; Miller Harness Co., LLC, East Rutherford, NJ

TA-W-37,973; General Motors Corp., Desert Proving Ground, Mesa, AZ

The workers firm does not produce an article as required for certification under section 222 of the Trade Act of 1974.

TA-W-37,704; Fernwood Magnetics, Belvidere, NJ

TA-W-37,679; National Semiconductor, Die Products Business Group, South Portland, ME

TA-W-37,798; KPT, Inc., Bloomfield, IN

TA-W-37,871; Robinson Fiddler's Green Manufacturing Co., Inc., Springville, NY

TA-W-37,855; Graphic Vinyl Products, Inc., Newark, NJ

TA-W-37,948; Rock-Tenn Corp., Madison, WI

Increased imports did not contribute importantly to worker separations at the firm.

TA-W-37,808; Edgewater Steel, LTD, Oakmont, PA

The investigation revealed that criteria (1) and criteria (3) have not been met. A significant number or proportion of the workers did not become totally or partially separated from employment as required for certification. Sales or production did not decline during the relevant period as required for certification. Increases of imports of articles like or directly competitive.

Affirmative Determinations for Worker Adjustment Assistance

The following certifications have been issued; the date following the company name and location of each determination references the impact date for all workers of such determination.

TA-W-38,019; West Mill Clothes, Inc., Woodside, NY: August 10, 1999.

TA-W-37,931; Tri State Data Products, Feasterville, PA: July 24, 1999.

TA-W-37,756; NRV Manufacturing Co., Inc., Carollton, AL: May 27, 1999.

TA-W-37,955; J.A. Thurston Co., Inc., Rumford, ME: August 4, 1999.

TA-W-37,954; Brestl, Inc., High Point, NC: August 4, 1999.

TA-W-37,991; New Haven Industries, Inc., Lock Haven, PA: August 10, 1999.

TA-W-37,937; Wolverine Worldwide, Inc., Kirksville, MO: July 17, 1999.

TA-W-37,894; GT Bicycles, Inc., Santa Ana, CA: June 19, 1999.

TA-W-37,760; Marijon Dyeing and Finishing Co., East Rutherford, NJ: May 18, 1999.

TA-W-37,952; Ochoco Lumber Col, Prineville, OR: July 28, 1999.

TA-W-37,550; Lermer Aircraft Galley Equipment, Inc., Eatontown, NJ: May 25, 1999.

TA-W-37,968; Vesuvius Premier Refractories, Washington, PA: August 3, 1999.

TA-W-37,880; AII Technologies, Inc., El Paso, TX: August 21, 1999.

TA-W-37,714; Gambro Renal Service, Lakewood, CO: May 11, 1999.

TA-W-37,502; Leica Microsystems, Inc., Analytical Div., Depew, NY: March 17, 1999.

TA-W-37,807; Southern Trim, Inc., Opp, AL: June 9, 1999.

TA-W-37,963; Prestolite Wire Corp., Battery Cable and Battery Terminal Dept., Bristol, TN: July 22, 1999.

TA-W-37,913; United Filters, Inc., Amarillo, TX: September 11, 2000.

TA-W-37,746; N.N. Apparel, Inc., Mt. Vernon, NY: May 23, 1999, Hermitage, MO: May 22, 1999.

Also, pursuant to title V of the North American Free Trade Agreement Implementation Act (P.L. 103-182) concerning transitional adjustment assistance hereinafter called (NAFTA-TAA) and in accordance with section 250(a), subchapter D, chapter 2, title II, of the Trade Act as amended, the Department of Labor presents summaries of determinations regarding eligibility to apply for NAFTA-TAA issued during the month of September, 2000.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases in imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-03948; Spray Cotton Mills, Nova Yarns Div., Eden, NC

NAFTA-TAA-04068; Rock-Tenn Corp., Madison, WI

NAFTA-TAA-04035; Acorn Window Systems, Quincy, MI

NAFTA-TAA-03811; Stant Manufacturing, Inc., Plating Operation, Connersville, IN

NAFTA-TAA-04084; WP Industries, Inc., South Gate, CA

NAFTA-TAA-04099; Adirondack Knitting Mills, Inc., Amsterdam, NY

The investigation revealed that the criteria for eligibility have not been met for the reasons specified.

NAFTA-TAA-4063; RMH Teleservices, Inc., Sergeant Bluff, IA

NAFTA-TAA-04064; General Motors Corp., Desert Proving Ground, Mesa, AZ

The investigation revealed that workers of the subject firm did not produce an article within the meaning of Section 250(a) of the Trade Act, as amended.

NAFTA-TAA-03971; Edgewater Steel, Ltd., Oakmont, PA

The investigation revealed that criteria (1) and criteria (4) have not been met. A significant number or proportion of the workers in such workers' firm or an appropriate subdivision (including workers in any agricultural firm or appropriate subdivision thereof) have become totally or partially separated from employment. There was no shift in production from the subject firm to Canada or Mexico during the relevant period.

Affirmative Determinations NAFTA-TAA

NAFTA-TAA-04041; B.F. Goodrich Aerospace, Landing Gear Div., Euless, TX: July 14, 1999.

NAFTA-TAA-04057; Permair Leathers, Salem, MA: August 4, 1999.

NAFTA-TAA-04050; Prestolite Wire Corp., Battery Cable and Battery Terminal Dept., Bristol, TN: July 22, 1999.

NAFTA-TAA-04108; Parker Seal Co., Parker-Hannifin Corp., Berea, KY: August 11, 1999.

NAFTA-TAA-04065; Academy Broadway Corp., Sleeping Bag Div., Pine Knot, KY: August 4, 1999.

NAFTA-TAA-04119; Bulk Manufacturing Co., Plant City, FL: August 14, 1999.

NAFTA-TAA-04073; Smith and Nephew, Inc., Dynacast Extra Casting Dept., Charlotte, NC: August 11, 1999.

NAFTA-TAA-4047; AII Technologies, Inc., El Paso, TX: July 12, 1999.

NAFTA-TAA-04069; Alaria Medical Systems, Creedmoor, NC: August 9, 1999.

NAFTA-TAA-04055; Melvin Quilting, Rocky Mount, NC: July 31, 1999.

NAFTA-TAA-04004; MNCO, LLC, (Formerly McGuire-Nicholas Co., LLC), Commerce, CA: May 23, 1999.

NAFTA-TAA-04040; VF Workwear, Inc., Red Kap Industries, Dickson, TN: July 20, 1999.

NAFTA-TAA-04123; Eastman Kodak Co., Precision Plastics Tech Center, Rochester, NY: August 11, 1999.

I hereby certify that the aforementioned determinations were issued during the month of September, 2000. Copies of these determinations are available for inspection in Room C-5311, U.S. Department of Labor, 200 Constitution Avenue, NW., Washington, DC 20210 during normal business hours or will be mailed to persons who write to the above address.

Dated: September 15, 2000.
Edward A. Tomchick,
Director, Division of Trade Adjustment Assistance.

[FR Doc. 00-24421 Filed 9-21-00; 8:45 am]

BILLING CODE 4510-30-M